DEPARTMENT OF ENERGY

Federal Energy Regulatory Commission

[Docket No. PF05-17-000]

Maritimes & Northeast Pipeline, L.L.C.; Notice of Intent To Prepare an Environmental Impact Statement for the Proposed Maritimes Phase IV Project and Request for Comments on Environmental Issues and Notice of Scoping Meetings

December 16, 2005.

The staff of the Federal Energy Regulatory Commission (FERC or Commission) will prepare an environmental impact statement (EIS) that discusses the environmental impacts of the Maritimes & Northeast, L.L.C. (Maritimes) proposed Maritimes Phase IV Project which involves the construction of 146.2 miles of various diameter pipeline loops; ¹ six new compressor stations; and modifications at one existing compressor station and four existing meter stations in Maine and Massachusetts. This EIS will be used by the Commission in its decision-making process to determine whether the project is in the public convenience and necessity.

¹ A pipeline loop is a segment of pipeline that general parallels an existing pipeline. The loop is connected to the existing pipeline and serves to increase the capacity of the pipeline system.

The Maritimes Phase IV Project is currently in the preliminary stages of design and at this time a formal application has not been filed with the Commission. For this project, the Commission is initiating the National Environmental Policy Act (NEPA) review prior to receiving the application. This allows interested stakeholders to become involved early in the project planning and to identify and resolve issues before a formal application is filed with the FERC. A docket number (PF05-17-000) has been established to place information filed by Maritimes and related documents issued or received by the Commission, into the public record.² Once a formal application is filed with the FERC, a new docket number will be established.

² To view information in the docket, follow the instructions for using the eLibrary link at the end of this notice.

This notice is being sent to residents within 0.5 mile of the existing and proposed compressor stations; landowners along the pipeline routes under consideration; Federal, state, and local government agencies; elected officials; environmental and public interest groups; Native American tribes; and local libraries and newspapers.

With this notice, we ³ are asking Federal, state, and local agencies with jurisdiction and/or special expertise with respect to environmental issues, especially those in Appendix 2, to cooperate with us in the preparation of the EIS.⁴ These agencies may choose to participate once they have evaluated the proposal relative to their responsibilities. Agencies which would like to request cooperating status should follow the instructions for filing comments described later in this notice. We encourage government representatives to notify their constituents of this planned project and encourage them to comment on their areas of concern.

³ “We,” “us,” and “our” refer to the environmental staff of the Office of Energy Projects.

⁴ Agencies which have previously requested cooperating status for this project need not request it again.

Some affected landowners may be contacted by a project representative about the acquisition of an easement to construct, operate, and maintain the proposed pipeline. If so, the company should seek to negotiate a mutually acceptable agreement. In the event that the project is certificated by the Commission, that approval conveys the right of eminent domain for securing easements for the pipeline. Therefore, if easement negotiations fail to produce an agreement, the company could initiate condemnation proceedings in accordance with state law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project

Maritimes wants to expand the capacity of its facilities in Maine and Massachusetts to transport an additional 1.5 billion cubic feet per day of natural gas from two liquefied natural gas (LNG) import terminals presently under construction in Canada to markets in the Northeast United States. Specifically Maritimes would construct: ⁵

⁵ The Westbrook Loop, the Eliot Compressor Station, the Westbrook Meter and Compressor Stations, and the Dracut Meter Station would be or are adjacent to the Joint Facilities which are a segment of the existing pipeline which is owned jointly by Maritimes and Portland Natural Gas Transmission System. The remaining facilities would be or are adjacent to existing pipeline which is solely owned by Maritimes.

Pipeline Loops in Maine

• Approximately, 1.7 miles of 30-inch-diameter pipeline and 25.5 miles of 36-inch-diameter pipeline in Washington County (Baileyville Loop);

• 26.7 miles of 36-inch-diameter pipeline in Hancock and Penobscot Counties (Woodchopping Ridge Loop);

• 23.6 miles of 36-inch-diameter pipeline in Penobscot and Waldo Counties (Brewer Loop);

• 21.7 miles of 36-inch-diameter pipeline in Waldo, Knox, Lincoln and Kennebec Counties (Searsmont Loop);

• 28.6 miles of 36-inch-diameter pipeline in Sagadahoc, Androscoggin and Cumberland Counties (Richmond Loop);

• 3.3 miles of 36-inch-diameter pipeline in Cumberland County (Falmouth Loop); and

• 15.1 miles of 36-inch-diameter pipeline in Cumberland and York Counties (Westbrook Loop).

New Compressor Stations in Maine and Massachusetts

Maine

• Woodchopping Ridge Compressor Station in Hancock County;

• Brewer Compressor Station in Penobscot County;

• Searsmont Compressor Station in Waldo County;

• Westbrook Compressor Station in Cumberland; and

• Eliot Compressor Station in York County.

Massachusetts

• New Compressor Station in Methuen, Middlesex County or in Haverhill, Essex County.

Additional Compression in Maine

• Richmond Compressor Station in Sagadahoc County.

Other Modifications in Maine and Massachusetts

Maine

• Addition of a meter station at the existing Baileyville Compressor Station in Washington County; and

• Modification of the existing Westbrook Meter Station in Cumberland County.

Massachusetts

• Modification of the existing Methuen Meter Station in Essex County; and

• Modification of the existing Dracut Meter Station in Middlesex County.

A map depicting the general location of the project facilities is provided in Appendix 1.⁶ If you are interested in obtaining detailed maps of a specific portion of the project please contact Rebecca Kimball with Maritimes at 800-738-4880.

⁶ The appendices referenced in this notice are not being printed in the Federal Register. Copies are available on the Commission's Internet Web site (http://www.ferc.gov) at the “eLibrary” link or from the Commission's Public Reference and Files Maintenance Branch at (202) 502-8371. For instructions on connecting to eLibrary refer to the last page of this notice.

Non-Jurisdictional Facilities

Non-jurisdictional facilities associated with this proposal include two LNG terminals presently under construction (Canaport LNG in New Brunswick and Bear Head LNG in Nova Scotia). Both terminals anticipate being in service in 2008. Four new compressor stations and additional pipeline would also be required in Canada.

Land Requirements for Construction

It is estimated that the construction of the proposed facilities would disturb about 1,948 acres of land. About 579 acres of the total would be retained for the operation of the pipeline loops and the aboveground facilities (compressor/meter stations). The pipeline loops would be constructed on either a 95- or 105-foot-wide right-of-way with occasional increases in the right-of-way width for additional workspace at waterbody, wetland, road, and railroad crossings. Extra workspaces may also be required in areas with site specific constraints, such as side slope construction or areas requiring topsoil segregation. Other temporary land requirements would include land for pipe storage and equipment yards. Operation of the pipeline facilities would require a nominal 25- or 50-foot-wide permanent right-of-way.

The EIS Process

The National Environmental Policy Act (NEPA) requires the Commission to take into account the environmental impacts that could result from an action whenever it considers the issuance of a Certificate of Public Convenience and Necessity under section 7 of the Natural Gas Act. NEPA also requires us to discover and address concerns the public would have about proposals. This process is referred to as “scoping”. The main goal of the scoping process is to focus the analysis in the EIS on the important environmental issues and reasonable alternatives. By this Notice of Intent, the Commission staff requests agency and public comments on the scope of the issues to address in the EIS. All comments received are considered during the preparation of the EIS. State and local government representatives are encouraged to notify their constituents of this proposed action and encourage them to comment on their areas of concern.

The EIS discusses impacts that could occur as a result of the construction and operation of the proposed project under these general headings:

• Geology and soils.

• Land use.

• Water resources, fisheries, and wetlands.

• Cultural resources.

• Vegetation and wildlife.

• Air quality and noise.

• Endangered and threatened species.

• Hazardous waste.

• Public safety.

We may also evaluate possible alternatives to the proposed project or portions of the project, and make recommendations on how to lessen or avoid impacts on the various resource areas.

Our independent analysis of the issues are included in the draft EIS. Depending on the comments received during the scoping process, the draft EIS would be published and mailed to Federal, state, and local agencies, Native American tribes, public interest groups, interested individuals, affected landowners, newspapers, libraries, and the Commission's official service list for this proceeding. A comment period would be allotted for review of the draft EIS. All comments on the draft EIS would be considered and the document revised before issuing a final EIS. This draft EIS is used by the Commission in its decision-making process to determine whether the project is in the public convenience and necessity.

To ensure your comments are considered, please carefully follow the instructions in the public participation section beginning on page 6.

Currently Identified Environmental Issues

We have identified several issues that we think deserve attention based on a preliminary review of the proposed facilities and the environmental information provided by Maritimes. This preliminary list of issues may be changed based on your comments and our analysis.

• Geology and Soils.

—Blasting and disposal of excess rock.

• Water Resources.

—Impacts of construction on water quality.

—Impact of construction on wetlands.

• Fish, Wildlife, and Vegetation.

—Impacts of construction on cold water fisheries and anadromous fisheries (including Atlantic salmon).

—Impacts of construction on wildlife habitat (including deer wintering areas).

—Disposal of timber and stumps.

• Endangered and Threatened Species.

—Impacts of construction on Atlantic salmon, shortnosed sturgeon, and bald eagles.

—Impacts on essential fish habitat.

• Reliability and Safety.

—Safety and reliability of the compressor stations and pipeline loops.

• Air Quality and Noise.

—Impacts of construction and operation of the pipeline and compressor stations on residences.

Public Participation

You can make a difference by providing us with your specific comments or concerns about the project. By becoming a commentor, your concerns may be addressed in the EIS and considered by the Commission. You should focus on the potential environmental effects of the proposal, alternatives to the proposal (including alternative locations and routes), and measures to avoid or lessen environmental impact. The more specific your comments, the more useful they may be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2; and

• Reference Docket No. PF05-17-000 on the original and both copies.

• Mail your comments so that they will be received in Washington, DC on or before January 20, 2006.

Please note that we are continuing to experience delays in mail deliveries from the U.S. Postal Service. As a result, we would include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you should open a free account which can be created on-line.

If you do not want to send comments at this time but still want to remain on our mailing list, please return the attached Mailing List Retention Form (Appendix 3). If you do not return the form, you will be taken off the mailing list.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Public Scoping Meeting

In addition to or in lieu of sending written comments, we invite you to attend the public scoping meetings we will conduct in the area. The locations and times for these meetings are listed below:

January 9, 2006, 7 p.m., Jeff's Catering Brewer, 5 Coffin Avenue, Brewer, ME 04412

January 10, 2006, 7 p.m., Liberty Town Hall, 7 Waters Street, Liberty, ME 04949

January 11, 2006, 7 p.m., American Legion Hall, 17 Dunn Street, Westbrook, ME 04092

January 12, 2006, 7 p.m., Metheun High School Cafeteria, 1 Ranger Road, Methuen, MA 01844

The public scoping meetings are designed to provide state and local agencies, interested groups, affected landowners, and the general public with more detailed information and another opportunity to offer your comments on the proposed project. Interested groups and individuals are encouraged to attend the meeting and to present comments on the environmental issues they believe should be addressed in the EIS. A transcript of the meetings will be made so that your comments will be accurately recorded.

Finally, public meetings will be posted on the Commission's calendar located at http://www.ferc.gov/EventCalendar/EventsList.aspx along with other related information.

Magalie R. Salas,
Secretary.

[FR Doc. E5-7903 Filed 12-27-05; 8:45 am]

BILLING CODE 6717-01-P